DEPARTMENT OF THE INTERIOR

Bureau of Land Management

[LLMT926000-10-L19100000-BJ0000-LRCM07RE4030]

Notice of Filing of Plats of Survey; Montana

AGENCY: Bureau of Land Management, Interior.

ACTION: Notice of filing of plats of survey.

SUMMARY: The Bureau of Land Management (BLM) will file the plat of survey of the lands described below in the BLM Montana State Office, Billings, Montana, July 6, 2010.

FOR FURTHER INFORMATION CONTACT: Marvin Montoya, Cadastral Surveyor, Branch of Cadastral Survey, Bureau of Land Management, 5001 Southgate Drive, Billings, Montana 59101-4669, telephone (406) 896-5124 or (406) 896-5009.

SUPPLEMENTARY INFORMATION: This survey was executed at the request of the Superintendent, Fort Peck Agency, through the Rocky Mountain Regional Director, Bureau of Indian Affairs, and was necessary to determine boundaries of trust or tribal interest lands.

The lands we surveyed are:

Principal Meridian, Montana

T. 28 N., R. 53 E.

The plat, in 1 sheet, representing the dependent resurvey of portions of the south and west boundaries and the subdivisional lines, the adjusted original meanders of the former left bank of the Missouri River, downstream, through sections 30 and 31, a portion of the subdivision of sections 30 and 31, and the subdivision of sections 30 and 31 and the survey of the meanders of the present left bank of the Missouri River, downstream, through sections 30 and 31, the left bank of a relicted channel of the Missouri River, downstream, through sections 30 and 31, the medial lines of two relicted channels of the Missouri River, through sections 30 and 31, a division of accretion line, certain partition lines and an island (Tract 37), Township 28 North, Range 53 East, Principal Meridian, Montana, was accepted May 25, 2010.

We will place a copy of the plat, in 1 sheet, and related field notes we described in the open files. They will be available to the public as a matter of information. If the BLM receives a protest against this survey, as shown on this plat, in 1 sheet, prior to the date of the official filing, we will stay the filing pending our consideration of the protest. We will not officially file this plat, in 1 sheet, until the day after we have accepted or dismissed all protests and they have become final, including decisions or appeals.

Authority: 43 U.S.C. Chap 3.

Dated: May 27, 2010.
James D. Claflin,
Chief Cadastral Surveyor, Division of Resources.

[FR Doc. 2010-13406 Filed 6-3-10; 8:45 am]

BILLING CODE 4310-DN-P